DEPARTMENT OF JUSTICE

Notice of Lodging of Proposed Consent Decree Under the Comprehensive Environmental Response, Compensation, and Liability Act

On June 3, 2025, the Department of Justice lodged a proposed Consent Decree with the United States District Court for the District of Idaho in the lawsuit entitled United States, et al. v. Nu-West Mining Inc. and Nu-West Industries, Inc., Civil Action No. 4:25-cv-00287-AKB.

The proposed Consent Decree would resolve claims the United States has brought against defendants pursuant to Sections 106 and 113(g) of the Comprehensive Environmental Response, Compensation, and Liability Act, 42 U.S.C. 9606, and 9613(g), as amended by the Superfund Amendments and Reauthorization Act of 1986 (“CERCLA”) regarding the East Mill Dump Sub-Operable Unit (“EMDSOU”) at the North Maybe Mine Site in Idaho. The Decree would also resolve claims by the State of Idaho (“State”) and Shoshone-Bannock Tribes (“Tribes”), pursuant to CERCLA Section 107 and 113(g)(2), seeking recovery of response costs incurred in response to releases of hazardous substances at the Site and a judgment on liability for response costs that will be binding on any subsequent action or actions to recover further response costs pursuant to Sections 107 and 113(g)(2) of CERCLA, 42 U.S.C. 9607, 9613(g)(2).

Under the Consent Decree, Defendants will perform response actions at the EMDSOU pursuant to the September 1, 2022, Interim Record of Decision. Defendants will also pay funds for oversight costs to the State, Tribes and the United States Fish and Wildlife Service. In exchange, the United States will provide covenants not to sue or to take administrative action against defendants pursuant to Sections 106 and 107(a) of CERCLA, 42 U.S.C. 9606 and 9607(a) for the Work. The State and the Tribes also provide covenants not to sue or take administrative action against defendants regarding the Work, State Response Costs, and Tribal Response Costs under any of Sections 106 and 107(a) of CERCLA, the Idaho Environmental Protection & Health Act, Idaho Code secs. 39-101 to 39-130, the Hazardous Waste Management Act of 1983, Idaho Code secs. 39-4401 to 39-4432, and the Idaho Water Quality Act, Idaho Code secs. 39-3601, et seq. Defendants provide corresponding covenants to the United States.

The publication of this notice opens a period for public comment on the Consent Decree. Comments should be addressed to the Assistant Attorney General, Environment and Natural Resources Division, and should refer to United States, et al. v. Nu-West Mining Inc., et al., 4:25-cv-00287-AKB, D.J. Ref. No. #90-11-3-1776/10. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Proposed Consent Decree, you may request assistance by email or by mail to the addresses provided above for submitting comments.

Kathryn C. Macdonald,
Assistant Section Chief, Environmental Enforcement Section, Environment and Natural Resources Division.

[FR Doc. 2025-10509 Filed 6-9-25; 8:45 am]

BILLING CODE 4410-11-P